SOCIAL SECURITY ADMINISTRATION

President's Commission To Strengthen Social Security; Meeting

AGENCY: Social Security Administration (SSA).

ACTION: Announcement of meeting.

DATE: December 11, 2001 10 a.m.-6 p.m.

ADDRESS: Washington, DC—Venue to be determined. Due to unforeseen circumstances the venue has not been identified to date. This information will be published in the Federal Register and posted at www.CSSS.gov as soon as it is available.

SUPPLEMENTARY INFORMATION: Type of meeting: The meeting will be open to the public between 10 a.m. and 6 p.m., with a break for lunch between 12:30 p.m. and 1:30 p.m.

Purpose: This is the seventh deliberative meeting of the Commission. No public testimony will be heard at this meeting. However, interested parties are invited to attend the meeting.

Agenda: The Commission will meet commencing Tuesday, December 11, at 10 a.m. and ending at 6 p.m., with a break for lunch between 12:30 p.m. and 1:30 p.m. The Commission will be discussing its draft Final Report.

Records are being kept of all Commission proceedings that are subject to public release under the Federal Advisory Committee Act and are available for public inspection at the Commission's office at the address below. Documents such as meeting announcements, agendas, transcripts, and Commission reports will be available on the Commission's web page. Anyone requiring information regarding the Commission should contact Commission staff by:

• Internet at http://www.CSSS.gov, email to comments@CSSS.gov;

• Mail addressed to President's Commission to Strengthen Social Security, 734 Jackson Place, NW, Washington, DC, 20503;

• Telephone at (202) 343-1255.

Dated: November 27, 2001.
Michael A. Anzick,
Designated Federal Officer.

[FR Doc. 01-30027 Filed 12-3-01; 8:45 am]

BILLING CODE 4191-02-U